DEPARTMENT OF ENERGY

Federal Energy Regulatory Commission

[Project No. 2302-099]

Brookfield White Pine Hydro, LLC; Notice of Intent To File License Application, Filing of Pre-Application Document, Approving Use of the Traditional Licensing Process

a. Type of Filing: Notice of Intent to File License Application and Request to Use the Traditional Licensing Process.

b. Project No.: 2302-099.

c. Date Filed: August 4, 2021.

d. Submitted by: Brookfield White Pine Hydro, LLC.

e. Name of Project: Lewiston Falls Hydroelectric Project.

f. Location: On the Androscoggin River, in Androscoggin County, Maine. No federal lands are occupied by the project works or located within the project boundary.

g. Filed Pursuant to: 18 CFR 5.3 of the Commission's regulations.

h. Potential Applicant Contact: Luke T. Anderson, Manager, Relicensing Brookfield White Pine Hydro LLC, 150 Main Street Lewiston, ME 04240; (207) 755-5600; Luke.Anderson@brookfieldrenewable.com.

i. FERC Contact: Ryan Hansen at (202) 502-8074; or email at ryan.hansen@ferc.gov.

j. Brookfield White Pine Hydro, LLC filed its request to use the Traditional Licensing Process on August 4, 2021. Brookfield White Pine Hydro, LLC provided public notice of its request on July 29, 2021. In a letter dated September 15, 2021, the Director of the Division of Hydropower Licensing approved Brookfield White Pine Hydro, LLC's request to use the Traditional Licensing Process.

k. With this notice, we are initiating informal consultation with the U.S. Fish and Wildlife Service and NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Maine State Historic Preservation Officer, as required by section 106, National Historic Preservation Act, and the implementing regulations of the Advisory Council on Historic Preservation at 36 CFR 800.2.

l. With this notice, we are designating Brookfield White Pine Hydro, LLC as the Commission's non-federal representative for carrying out informal consultation pursuant to section 7 of the Endangered Species Act and section 305(b) of the Magnuson-Stevens Fishery Conservation and Management Act; and consultation pursuant to section 106 of the National Historic Preservation Act.

m. Brookfield White Pine Hydro, LLC filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. For assistance, contact FERC Online Support at FERCOnlineSupport@ferc.gov, (866) 208-3676 (toll free), or (202) 502-8659 (TTY).

o. The licensee states its unequivocal intent to submit an application for a new license for Project No. 2302. Pursuant to 18 CFR 16.8, 16.9, and 16.10 each application for a new license and any competing license applications must be filed with the Commission at least 24 months prior to the expiration of the existing license. All applications for license for this project must be filed by August 31, 2024.

p. Register online at http://www.ferc.gov/docs-filing/esubscription.asp to be notified via email of new filing and issuances related to this or other pending projects. For assistance, contact FERC Online Support.

Dated: September 15, 2021.
Kimberly D. Bose,
Secretary.

[FR Doc. 2021-20458 Filed 9-21-21; 8:45 am]

BILLING CODE 6717-01-P